SMALL BUSINESS ADMINISTRATION

[License No. 09/09-0479]

Conflicts of Interest Exemption: Avante Mezzanine Partners SBIC II, L.P.

Notice is hereby given that Avante Mezzanine Partners SBIC II, L.P., 11150 Santa Monica Blvd., Suite 1470, Los Angeles, CA 90025, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Avante Mezzanine Partners SBIC II, L.P., is seeking a written exemption from SBA for a proposed financing to Telestream Holding Corporation, 848 Gold Flat Road, Nevada City, CA 95959.

The financing is brought within the purview of § 107.730(a) of the Regulations because Avante Mezzanine Partners SBIC II, L.P will participate in a transaction that will discharge the obligations of its Associate, Avante Mezzanine Partners SBIC, L.P., therefore this transaction is considered Financing which constitute conflicts of interest requiring SBA's prior written exemption. Both Avante Mezzanine Partners SBIC II, L.P. and Avante Mezzanine Partners SBIC, L.P. previously held financings in Telestream Holding Corporation, however only Avante Mezzanine Partners SBIC II, L.P. will participate in this financing round as Avante Mezzanine Partners SBIC, L.P. has already concluded its investment period.

Notice is hereby given that any interested person may submit written comments on this transaction within fifteen days of the date of this publication to the Associate Administrator, Office of Investment and Innovation, U.S. Small Business Administration, 409 Third Street SW, Washington, DC 20416.

Donald DeFosset III,
Associate Administrator, Office of Investment and Innovation.

[FR Doc. 2020-23075 Filed 10-16-20; 8:45 am]

BILLING CODE P